DEPARTMENT OF COMMERCE

International Trade Administration

[A-549-813]

Notice of Final Results of Antidumping Duty Administrative Review, Rescission of Administrative Review in Part, and Final Determination to Revoke Order in Part: Canned Pineapple Fruit from Thailand

AGENCY: Import Administration, International Trade Administration, Department of Commerce.

SUMMARY: On August 7, 2002, the Department of Commerce (the Department) published the preliminary results of its administrative review of the antidumping duty order on canned pineapple fruit (CPF) from Thailand. This review covers eight producers/exporters of the subject merchandise. The period of review (POR) is July 1, 2000, through June 30, 2001. Based on our analysis of the comments received, these final results differ from the preliminary results. The final results are listed below in the Final Results of Review section. Furthermore, the preliminary results for one exporter/producer, Siam Food Products Public Co. Ltd. (SFP), are adopted in our final results of this administrative review; therefore, we will revoke the antidumping duty order with respect to SFP, based on three consecutive review periods of sales at not less than normal value. See Revocation of the Order (in Part) section of this notice. Consistent with the preliminary results, we are rescinding the review with respect to one exporter/producer, Prachuab Fruit Canning Company (Praft) based on our determination that this company had no shipments of subject merchandise to the United States during the POR.

EFFECTIVE DATE: December 13, 2002.

FOR FURTHER INFORMATION CONTACT: David Layton or Charles Riggle, Office 5, Group II, AD/CVD Enforcement, Import Administration, International Trade Administration, U.S. Department of Commerce, 14th Street and Constitution Avenue, NW, Washington, DC 20230; telephone: (202) 482-0371 and (202) 482-0650, respectively.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department regulations are references to the provisions codified at 19 CFR Part 351 (2001).

Background

This review covers the following producers/exporters of merchandise subject to the antidumping duty order on canned pineapple fruit from Thailand: Vita Food Factory (1989) Co., Ltd. (Vita), Kuiburi Fruit Canning Co., Ltd. (Kuiburi), Malee Sampran Public Co., Ltd. (Malee), Siam Food Products Public Co., Ltd. (SFP), The Thai Pineapple Public Co., Ltd. (TIPCO), Thai Pineapple Canning Industry Corp., Ltd. (TPC), Dole Food Company, Inc., Dole Packaged Foods Company, and Dole Thailand, Ltd. (collectively, Dole), and Siam Fruit Canning (1988) Co., Ltd. (SIFCO).

On August 7, 2002, the Department published the preliminary results of this review and invited interested parties to comment on those results. See Notice of Preliminary Results, Partial Rescission of Antidumping Duty Administrative Review and Preliminary Determination to Revoke Order in Part: Canned Pineapple Fruit From Thailand, 67 FR 51171 (Preliminary Results). On September 6, 2002, we received case briefs from Dole, TPC, and the petitioners.¹ On September 13, 2002, we received rebuttal briefs from Dole, Malee, and the petitioners. TIPCO also submitted a rebuttal brief on September 25, 2002, but it was rejected by the Department as an untimely submission.²

¹ The petitioners in this case are Maui Pineapple Company and the International Longshoremen's and Warehousemen's Union.

² See Letter to Anurat Tiamtan from Gary Taverman, Director, Office 5, Import Administration (September 30, 2002)

On September 6, 2002, Malee and SFP requested a public hearing, but withdrew their requests on September 19, 2002. As a result, no public hearing was held.

Scope of the Order

The product covered by this order is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (HTSUS). HTSUS 2008.20.0010 covers CPF packed in a sugar-based syrup; HTSUS 2008.20.0090 covers CPF packed without added sugar (i.e., juice-packed). Although these HTSUS subheadings are provided for convenience and for customs purposes, the written description of the scope is dispositive.

Recission

On September 17, 2001, in response to the Department's questionnaire, Praft stated that it made no shipments of subject merchandise to the United States during the POR. We received no comments regarding our preliminary decision to rescind the review with respect to Praft and, consistent with the preliminary results, we are rescinding the review with respect to Praft.

Analysis of Comments Received

All issues raised in the case and rebuttal briefs by parties to this review are addressed in the “Issues and Decision Memorandum for the Final Results of the Administrative Review of the Antidumping Duty Order on Canned Pineapple Fruit from Thailand” from Bernard T. Carreau, Deputy Assistant Secretary for Group II, Import Administration, to Faryar Shirzad, Assistant Secretary for Import Administration, dated December 5, 2002 (Decision Memorandum), which is hereby adopted by this notice.

A list of the issues which parties have raised and to which we have responded, all of which are addressed in the Decision Memorandum, is attached to this notice as an Appendix. Parties can find a complete discussion of all issues raised in this review and the corresponding recommendations in this public memorandum, which is on file in the Central Records Unit (CRU), room B-099 of the main Commerce building.

In addition, a complete version of the Decision Memorandum can be accessed directly on the Internet at http://ia.ita.doc.gov/. The paper copy and electronic version of the Decision Memorandum are identical in content.

Fair Value Comparisons

Except for the calculations for Dole and Malee, we calculated export price and normal value based on the same methodology used in the preliminary results. Changes to the export price calculation for Dole and the indirect selling expenses for Malee are detailed in their respective analysis memoranda.

Cost of Production

Except for Malee, we calculated the cost of production (COP) for the merchandise based on the same methodology used in the preliminary results. Changes to the general and administrative expense ratio for Malee are detailed in the Decision Memorandum.

Revocation of the Order (in Part)

On July 31, 2001, SFP requested that the Department revoke the antidumping order in part as regards SFP based on the absence of dumping pursuant to 19 CFR 351.222(b)(2). SFP submitted, along with its revocation request, a certification stating that: (1) the company sold subject merchandise at not less than normal value during the POR, and that in the future it would not sell such merchandise at less than normal value (see 19 CFR 351.222 (e)(1)(i)); (2) the company has sold the subject merchandise to the United States in commercial quantities during each of the past three years (see 19 CFR 351.222(e)(1)(ii)); and (3) the company agreed to its immediate reinstatement in the order, as long as any exporter or producer is subject to the order, if the Department concludes that the company, subsequent to the revocation, sold the subject merchandise at less than normal value. See 19 CFR 351.222(b)(2)(i)(B), and as referenced at 19 CFR 351.222(e)(1)(iii). No comments were filed by any party on our preliminary decision to revoke the order with respect to SFP.

Based on the final results of this review and the final results of the two preceding reviews (see Notice of Final Results of Antidumping Duty Administrative Review and Final Determination Not To Revoke Order in Part: Canned Pineapple Fruit From Thailand, 65 FR 77851 (December 13, 2000) and Notice of Final Results of Antidumping Duty Administrative Review and Recission of Administrative Review in Part: Canned Pineapple Fruit from Thailand, 66 FR 52744, (October 17, 2001), SFP has demonstrated three consecutive years of sales at not less than normal value.

Furthermore, the Department has found that SFP's aggregate sales to the United States have been made in commercial quantities during the last three segments of this proceeding. See Memorandum to Bernard Carreau, Deputy Assistant Secretary for Group II, Import Administration from David Layton, Import Compliance Specialist, Office 5, Import Administration: “Preliminary Determination to Revoke in Part the Antidumping Duty Order on Canned Pineapple Fruit from Thailand” dated July 31, 2002, on file in the CRU.

Based on the above facts, the Department determines that the continued application of the antidumping duty order is not necessary to offset dumping by SFP. SFP has also agreed in writing to its immediate reinstatement in the order, as long as any producer or exporter is subject to the order, should the Department conclude that SFP, subsequent to the revocation, sold the subject merchandise at less than normal value. Therefore, we will revoke the order with respect to merchandise produced and exported by SFP. In accordance with 19 CFR 351.222(f), we will terminate the suspension of liquidation for any such merchandise entered, or withdrawn from warehouse, for consumption on or after July 1, 2001. The Department will further instruct the Customs Service to refund with interest any cash deposit on entries made after June 30, 2001.

Final Results of Review

As a result of our review, we determine that the following weighted-average percentage margins exist for the period July 1, 2000, through June 30, 2001:

Manufacturer/exporter | Margin (percent)
Dole Food Company, Inc. (Dole) | 0.27
The Thai Pineapple Public Company, Ltd. (TIPCO) | 0.44
Kuiburi Fruit Canning Co. Ltd. (Kuiburi) | 0.39
Thai Pineapple Canning Industry (TPC) | 2.43
Siam Fruit Canning (1988) Co. Ltd. (SIFCO) | 0.64
Vita Food Factory (1989) Co. Ltd. (Vita) | 1.94
Malee Sampran Public Co., Ltd. (Malee) | 0.74
Siam Food Products Public Co., Ltd. (SFP) | 0.09

The Department shall determine, and the Customs Service shall assess, antidumping duties on all appropriate entries. In accordance with 19 CFR 351.212(b)(1), we have calculated importer-specific assessment rates by dividing the dumping margin found on the subject merchandise examined by the entered value of such merchandise. Where the importer-specific assessment rate is above de minimis we will instruct the Customs Service to assess antidumping duties on that importer's entries of subject merchandise. The Department will issue appropriate assessment instructions directly to the Customs Service within 15 days of publication of these final results of review.

Furthermore, the following deposit requirements will be effective for all shipments of the subject merchandise entered, or withdrawn from warehouse, for consumption on or after the publication date of these final results of administrative review, as provided by section 751(a) of the Act: (1) for the companies named above (with the exception of SFP, for whom we are revoking the order), the cash deposit rate will be the rate listed above, except where the margins are zero or de minimis no cash deposit will be required, (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent segment of the proceeding in which that manufacturer participated; and (4) if neither the exporter nor the manufacturer is a firm covered in this review or in any previous segment of this proceeding, the cash deposit rate will be 24.64 percent, the all-others rate established in the less-than-fair-value investigation. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return/destruction or conversion to judicial protective order of proprietary information disclosed under APO in accordance with 19 CFR 351.305(a)(3). Failure to comply is a violation of the APO.

This determination is issued and published in accordance with sections 751(a)(1) and 777(i)(1) of the Act.

Dated: December 5, 2002.
Faryar Shirzad,
Assistant Secretary for Import Administration.

APPENDIX

List of Comments in the Issues and Decision Memorandum

I. ISSUES SPECIFIC TO DOLE

Comment 1: Royalty Payments

Comment 2: Indirect Selling Expenses

Comment 3: Surrogate Canadian-dollar Interest Rate

Comment 4: Clerical Error Allegation

II. ISSUES SPECIFIC TO MALEE

Comment 5: Indirect Selling Expense Ratio

Comment 6: Net Realizable Value Calculation

Comment 7: General and Administrative Expenses

III. ISSUES SPECIFIC TO TIPCO

Comment 8: Calculation of G & A Expenses

Comment 9: Income Offsets

Comment 10: Packing Overhead

IV. JOINT ISSUE: DOLE, MALEE, & TIPCO

Comment 11: Fruit Cost Allocation

V. ISSUE SPECIFIC TO TPC

Comment 12: Affiliation

[FR Doc. 02-31479 Filed 12-12-02; 8:45 am]

BILLING CODE 3510-DS-S